DEPARTMENT OF AGRICULTURE

Food and Nutrition Service

7 CFR Parts 210 and 220

Incorporating the 2010 Dietary Guidelines for Americans Into the Proposed School Meal Patterns

AGENCY: Food and Nutrition Service (FNS), USDA.

ACTION: Request for comments.

SUMMARY: This document informs the public about a change in the Dietary Guidelines for Americans that affects the proposed rule “Nutrition Standards in the National School Lunch and School Breakfast Programs” issued by the Department of Agriculture and published in the Federal Register on January 13, 2011. Members of the public are asked to address this change when writing comments on the above referenced rule to assist the Department in updating the school meal patterns and nutrition standards according to the latest dietary recommendations.

DATES: The public comment period for the proposed rule closes on April 13, 2011.

ADDRESSES: All comments should be submitted under the proposed rule, “Nutrition Standards in the National School Lunch and School Breakfast Programs,” (FNS-2007-0038), which is posted at http://www.regulations.gov.

FOR FURTHER INFORMATION CONTACT: Julie Brewer, Chief, Policy and Program Development Branch, Child Nutrition Division, Food and Nutrition Service, Department of Agriculture, 703-305-2590, 3101 Park Center Drive, Room 640, Alexandria, Virginia 22302-1594.

SUPPLEMENTARY INFORMATION:

Background

Section 9 of the Richard B. Russell National School Lunch Act (NSLA), 42 U.S.C. 1758, requires that meals served under the National School Lunch Program and the School Breakfast Program reflect the most recent Dietary Guidelines for Americans (DGAs). The DGAs are the federal government's evidence-based nutritional guidance to promote health, reduce the risk of chronic diseases, and reduce the prevalence of overweight and obesity through improved nutrition and physical activity.

The Department of Agriculture (USDA) published a proposed rule on January 13, 2011 (76 FR 2494), to align the school meal patterns and nutrition standards with the 2005 DGAs, the most current at the time of publication. On January 31, 2011, USDA and the Department of Health and Human Services released the 2010 DGA recommendations. The 2010 DGA recommendations contain two changes from the 2005 recommendations which could affect the proposed school meal patterns.

The 2010 DGAs include a new Red-Orange vegetable subgroup, while the proposed meal patterns include an Orange vegetable subgroup and group the Red vegetables under the category of Other vegetables (consistent with the 2005 DGAs). However, the proposed meal patterns do reflect the emphasis on consuming a variety of vegetables, which is a key recommendation of the 2005 and 2010 DGAs. Consuming a variety of vegetables provides children with a number of nutrients that are under consumed in the United States, including dietary fiber, folate, magnesium, potassium, and vitamins A, C, and K.

The 2010 DGAs also advise consuming protein from a variety of sources, and recommend weekly amounts from three Protein foods (formerly Lean meat and beans) subgroups: (1) Seafood; (2) meat, poultry, and eggs; and (3) nuts, seeds, and soy products. The proposed meal patterns contain weekly and daily amounts of meats/meat alternates, but do not specify amounts for subgroups introduced by the 2010 DGAs. Consumption of a balanced variety of protein foods can contribute to improved nutrient intake and health benefits.

Therefore, this document requests the public to:

1. Consider the impact of the new Red-Orange vegetable subgroup and the new protein foods subgroups on the proposed school meal patterns,

2. Evaluate the need to revise the proposed meal patterns to reflect the new vegetable subgroup and protein foods subgroups, and

3. Address how the new vegetable subgroup and protein foods subgroups may be incorporated into the proposed meal patterns in a sound and practical manner.

Individuals wishing to address the effect of these changes, or any other issues, on the proposed rule “Nutrition Standards in the National School Lunch and School Breakfast Programs” (76 FR 2494), may submit their comments when providing comments on the above-referenced proposed rule.

Dated: March 14, 2011.
Julia Paradis,
Administrator, Food and Nutrition Service.

[FR Doc. 2011-6403 Filed 3-18-11; 8:45 am]

BILLING CODE 3410-30-P